DEPARTMENT OF JUSTICE

Notice of Lodging of Proposed Consent Decree Under the Clean Water Act

On November 14, 2022, the Department of Justice lodged a proposed Consent Decree with the United States District Court for the Southern District of Illinois in the lawsuit entitled United States and the State of Illinois v. Big River Solar, LLC Civil Action No. 3:22-cv-02659.

In this case, the United States and the State seek to resolve claims against Defendant Big River Solar, LLC, under the Clean Water Act. The United States and the State allege Big River violated of its state stormwater permit, during the construction of a large-scale solar farm in White County, Illinois. The proposed Consent Decree requires Big River to perform injunctive relief measures to ensure compliance until construction is complete and the stormwater permit is terminated. The Consent Decree also requires Big River to pay a civil penalty of $175,000, with $122,500 to the United States, and $52,500 to the State of Illinois.

The publication of this notice opens a period for public comment on the Consent Decree. Comments should be addressed to the Assistant Attorney General, Environment and Natural Resources Division, and should refer to United States State of Illinois v. Big River Solar, LLC, D.J. Ref. No. 90-5-1-1-12558. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $34.75 (25 cents per page reproduction cost) payable to the United States Treasury. For a paper copy exclusive of exhibits and signature pages, the cost is $10.00.

Patricia McKenna,
Assistant Section Chief, Environmental Enforcement Section, Environment and Natural Resources Division.

[FR Doc. 2022-25187 Filed 11-17-22; 8:45 am]

BILLING CODE 4410-15-P